DEPARTMENT OF JUSTICE

Bureau of Justice Statistics

[OJP(BJS)-1338]

2002 Census of Tribal Justice Agencies in American Indian and Alaska Native Tribal Jurisdictions

AGENCY: Bureau of Justice Statistics, Office of Justice Programs, Justice.

ACTION: Notice of solicitation.

SUMMARY: The purpose of this notice is to announce a public solicitation to obtain a data collection agent for the 2002 Census of Tribal Justice Agencies in American Indian and Alaska Native Jurisdictions.

DATES: Proposals must be received at the Bureau of Justice Statistics (BJS) on or before 5:00 p.m. EST, January 7, 2002 or be postmarked on or before January 7, 2002.

ADDRESSES: Proposals should be mailed to Application Coordinator, Bureau of Justice Statistics, 810 Seventh Street, NW, Washington, DC 20531; (202) 616-3497.

FOR FURTHER INFORMATION CONTACT: Marika Litras, Statistician, Bureau of Justice Statistics, 810 Seventh Street, NW, Washington, DC 20531; Phone (202) 514-4272 (This is not a toll free number); E-mail: Marika.Litras@usdoj.gov.

SUPPLEMENTARY INFORMATION

Statutory Authority

The awards made pursuant to this solicitation will be funded by the Bureau of Justice Statistics consistent with the provisions of 42 U.S.C. § 3732.

Program Goals

The purpose of this award is to provide funding to administer the 2002 Census of Tribal Justice Agencies in American Indian and Alaska Native Tribal Jurisdictions. The survey will obtain baseline information about tribal justice agencies in Federally recognized American Indian tribes and Alaska Native villages. Special emphasis will be made to identify the tribal justice forums used for resolving disputes, tribal court services and personnel, law enforcement agencies, record keeping, and crime reporting practices. The initial survey instrument and respondent list will be provided by BJS. A draft of the initial survey instrument currently is available on the BJS website for public review and comment at <www.ojp.usdoj.gov/bjs/stssent.htm#ctjaic>.

BJS anticipates making one award for a 12-month period under this solicitation. A total of up to $210,000 will be made available to complete the project pending OMB clearance.

Background

The implementation of the 2002 Census of Tribal Justice Agencies in American Indian and Alaska Native Tribal Jurisdictions is part of a multifaceted effort by BJS to expand statistical activities related to American Indian and Alaska Native crime and justice issues. The program is a component of the U.S. Department of Justice's Indian Country Law Enforcement Initiative appropriated to address the need for improved law enforcement and tribal justice systems in Indian Country. To date, there is no comprehensive documentation of tribal justice agencies operating in Indian Country, the services they provide, and the capacity of American Indian tribes and Alaska Native villages to collect and report information about crime in their jurisdiction. Findings from the Census are designed to provide a systematic understanding of the administration of justice in Indian Country.

Though baseline information about detention facilities is available through BJS” Survey of Jails in Indian Country, and selected information about tribal law enforcement agencies is available through BJS” Census of State and Local Law Enforcement Agencies, sparse data are available in the areas of tribal courts, tribal prosecution, tribal public defense, the use of traditional methods of dispute resolution, justice system personnel, and whether and to what extent crime incidents and civil disputes are recorded.

The goal of this survey is to provide baseline information upon which to build a tribal criminal justice statistics infrastructure that not only will improve the Nation's understanding of crime and the administration of justice in American Indian tribes and Alaska Native villages, but may provide important information in the development or expansion of their own tribal justice systems. The information, moreover, may be useful by tribes in their application for various national crime prevention programs, such as the Local Law Enforcement Block Grants administered by the Bureau of Justice Assistance (BJA) and the Juvenile Accountability Incentive Block Grant Program of the Office of Juvenile Justice and Delinquency Prevention (OJJDP), both of which provide for the distribution of funds based upon formulas utilizing crime information.

Eligibility Requirements

Both profit making and nonprofit organizations may apply for funds. Consistent with OJP fiscal requirements, however, no fees may be charged against the project by profit-making organizations.

Scope of Work

The objective of this project is to complete data collection for the 2002 Census of Tribal Justice Agencies in American Indian and Alaska Native Tribal Jurisdictions. This includes extensive follow up, data verification, coding and data entry, and delivery of a final data set and documentation. The initial survey instrument and respondent list will be provided by BJS. Specifically, the recipient of funds will:

1. Develop a detailed timetable for each task in the project. Data collection should begin within three months of the project start and be completed within twelve months. After the BJS project manager has agreed to the timetable, all work must be completed as scheduled.

2. Provide a final review of the survey instrument drafted by BJS for form and content.

3. Verify the names, addresses, and appropriate contact from the respondent list provided by BJS. The most current BIA Tribal Leaders list will comprise the respondent list for this project.

4. Conduct a pre-test of the survey instrument in a minimum of two sites to assure that survey items are perceived by respondents as intended and can be provided in a timely manner.

5. Mail surveys to respondents and provide extensive follow up to respondents that require help, clarification, or encouragement to complete the survey. This may involve multiple follow up telephone calls, re-mailing or re-faxing surveys, email correspondence, and site visits where necessary. In some cases, survey translation into the Native language may be necessary.

6. Implement and maintain an automated system to provide ongoing status of each survey respondent, complete documentation, and an inventory of follow up communication and procedures for each case. This automated tracking system should be remain current and be accessible to the BJS project monitor at all times.

7. Identify techniques necessary to achieve a 100% survey item response rate. The data collection agent will have routine contact with the tribes and must be knowledgeable about the salient issues and tribal relations among various levels of government.

8. Deliver to BJS electronic versions of the survey data, and documentation on diskette and in ASCII file format. Survey documentation should include, but is not limited to, a comprehensive codebook detailing variable positions, data coding, variable and value labels, any recoding implemented during the data cleaning process, methods used for dealing with missing data, any data allocations, imputation, or non-response adjustment, and copies of all program code used to generate data or published statistics. All data and documentation from this survey may be posted on the BJS website, and data archived at the Inter-University Consortium for Political and Social Research (ICPSR).

Award Procedures and Evaluation Criteria

Proposals should describe the plan and implementation strategies outlined in the Scope of Work. Information on staffing levels and qualifications should be included for each task and descriptions of experience relevant to the project. Resumes of the proposed project director and key staff should be enclosed with the proposal.

Applications will be reviewed competitively with the final award decision made by the Director of BJS. The applicant will be evaluated on the basis of:

1. Demonstrated knowledge of applied survey research, including survey construction, interview techniques, data collection, data coding, entry and verification, and the production of public use data files. This includes availability of an adequate computing environment, knowledge of standard social science data processing software, and demonstrated ability to produce SPSS readable data files for analysis and report production.

2. Demonstrated ability and experience in collecting data in American Indian tribes and Alaska Native villages.

3. Knowledge of the tribal justice issues and logistical impediments to implementing surveys on American Indian reservations, tribal lands, tribal communities, or native villages. Applicants must demonstrate the ability to coordinate and facilitate trust and cooperation among tribal members participating in the survey. In addition, applicants must detail their strategy for obtaining participation from tribal respondents in remote areas with limited phone and/or postal access.

4. Demonstrated fiscal, management, staff, and organizational capacity to provide sound management for this project. Applicant should include detailed staff resources and other costs by project tasks.

Application and Award Process

• An original and two (2) copies of the full proposal must be submitted including:

• Standard Form 424, Application for Federal Assistance

• OJP Form 7150/1, Budget Detail Worksheet

• OJP Form 4000/3, Program Narrative and Assurances

• OJP Form 4061/6, Certification regarding Lobbying, Debarment, Suspension, and Other Responsibility Matters; Drug Free Workplace requirements

• OJP Form 7120-1, Accounting System and Financial Capability Questionnaire (to be submitted by applicants who have not previously received Federal Funds from the Office of Justice Programs).

These forms can be obtained online from www.ojp.usdoj.gov/forms.htm.

In addition, fund recipients are required to comply with regulations designed to protect human subjects and ensure confidentiality of data. In accordance with 28 CFR part 22, a Privacy Certificate must be submitted to BJS. Furthermore, a Screening Sheet for Protection of Human Subjects must be completed prior to the award being issued. Questions regarding Protection of Human Subjects and/or Privacy Certificate requirements can be directed to the Human Subjects Protection Officer (HSPO) at (202) 616-3282 [This is not a toll free number].

Proposals must include a project description and detailed budget. The project narrative should describe activities as discussed in the Scope of Work and address the evaluation criteria. The project narrative should contain a detailed time line for project activities, a description of the survey methodology to be used including defined geographic boundaries, data collection method, data entry, and data documentation procedures. The detailed budget must provide detailed cost including salaries of staff involved in the project and the portion of those salaries to be paid from the award, fringe benefits paid to each staff person, travel costs, supplies required for the project, sub-contractual agreements, and other allowable costs. The grant will be made for a period of 12 months.

Dated: November 16, 2001.
Lawrence A. Greenfield,
Acting Director, Bureau of Justice Statistics.

[FR Doc. 01-29332 Filed 11-23-01; 8:45 am]

BILLING CODE 4410-18-P